DEPARTMENT OF THE INTERIOR

Fish and Wildlife Service

[FWS-R8-R-2011-N239; FXRS12650800000S3-112-FF08R00000]

San Pablo Bay National Wildlife Refuge, Sonoma, Napa, and Solano Counties, CA; Final Comprehensive Conservation Plan and Finding of No Significant Impact

AGENCY: Fish and Wildlife Service, Interior.

ACTION: Notice of availability.

SUMMARY: We, the U.S. Fish and Wildlife Service (Service), announce the availability of our final Comprehensive Conservation Plan (CCP) and finding of no significant impact (FONSI) for the San Pablo Bay National Wildlife Refuge (Refuge). In the CCP, we describe how we will manage the Refuge for the next 15 years.

DATES: The CCP and FONSI are available now. The FONSI was signed on October 5, 2011. Implementation of the CCP may begin immediately.

ADDRESSES: You may view or obtain copies of the final CCP and FONSI/EA by any of the following methods. You may request a hard copy or CD-ROM.

Agency Web Site: Download a copy of the document(s) at http://www.fws.gov/cno/refuges/SanPablo/SanPablo.cfm.

Email: sfbaynwrc@fws.gov. Include “San Pablo Bay CCP” in the subject line of the message.

Fax: Attn: Winnie Chan, (510) 792-5828.

Mail: U.S. Fish and Wildlife Service, San Francisco Bay NWR Complex, 9500 Thornton Avenue, Newark, CA 94560.

In-Person Viewing or Pickup: Copies of the Final CCP and FONSI may also be viewed at the San Francisco Bay National Wildlife Refuge Complex, 1 Marshlands Road, Fremont, CA 94536 (510) 792-0222) or San Pablo Bay National Wildlife Refuge in Petaluma, CA (call (707) 769-4200 for directions).

Local Library: The final document is also available at the John F. Kennedy Library, 505 Santa Clara, Vallejo, CA 94590.

FOR FURTHER INFORMATION CONTACT: Winnie Chan, Planning Team Leader, at (510) 792-0222 (see ADDRESSES), or Don Brubaker, Refuge Manager, at (707) 769-4200.

SUPPLEMENTARY INFORMATION:

Background

The San Pablo Bay National Wildlife Refuge was established in 1970 under the Endangered Species Act of 1973 (16 U.S.C. 1531 et seq.), the Migratory Bird Conservation Act (16 U.S.C. 715d), and the Transfer of Certain Real Property for Wildlife Conservation Purposes Act of May 19, 1948 (16 U.S.C. 667d; Pub. L. 80-537), as amended. The 16,490-acre Refuge, located in Sonoma, Napa, and Solano Counties, California, consists of several noncontiguous units on the northernmost edge of San Pablo Bay. The Refuge was established to provide habitat for migratory birds and endangered species.

We announce our decision and the availability of the FONSI for the final CCP for San Pablo Bay in accordance with National Environmental Policy Act (NEPA) (40 CFR 1506.6(b)) requirements. We completed a thorough analysis of impacts on the human environment, which we included in the environmental assessment (EA) that accompanied the draft CCP.

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We intend to review and update the CCP at least every 15 years in accordance with the Administration Act.

Our Draft CCP and Environmental Assessment (EA) were available for a 30-day public review and comment period, which we announced via several methods, including press releases, updates to constituents, and a Federal Register notice (75 FR 39702; July 12, 2010). The Draft CCP/EA identified and evaluated three alternatives for managing the Refuge for the next 15 years.

Under Alternative A (No Action), management would continue unchanged. Under Alternative B, the Service would develop an inventory and monitoring program; expand tidal restoration and enhancement activities for the benefit of migratory birds, endangered species, and other native wildlife; improve and expand visitor services by developing new public access locations; develop shoreline fishing locations; and provide some additional environmental education programs. Alternative C, which was identified as the preferred alternative, would include all actions in Alternative B, and would also emphasize wildlife management by studying population health and developing population goals for wildlife; provide greater interpretive opportunities; and substantially expand the environmental education program.

We received seven letters on the Draft CCP and EA during the review and comment period. Comments focused upon cultural resources, habitat management and restoration, invasive plants, public access, and mosquito management. We incorporated comments we received into the CCP when appropriate, and we responded to the comments in an appendix to the CCP. In the FONSI, we selected Alternative C for implementation. The FONSI documents our decision and is based on the information and analysis contained in the EA.

Under the selected alternative, the Service will expand both natural resource management and visitor services opportunities on the Refuge. An inventory and monitoring program will be developed, as well as wildlife population goals. In addition to expanded tidal restoration and enhancement activities, additional habitat management activities include improving hydrological connectivity of tidal marsh habitats. Priorities will also be developed for the conservation and restoration of sub-tidal habitat. Visitor service opportunities will be expanded considerably with interpretation and environmental education opportunities. In addition, wildlife observation and fishing programs will be improved and/or expanded.

The selected alternative best meets the Refuges' purposes, vision and goals; contributes to the Refuge System mission; addresses the significant issues and relevant mandates; and is consistent with principles of sound fish and wildlife management. Based on the associated environmental assessment, this alternative is not expected to result in significant environmental impacts and therefore does not require an environmental impact statement.

Alexandra Pitts,
Acting Regional Director, Pacific Southwest Region, Sacramento, California.

[FR Doc. 2012-130 Filed 1-6-12; 8:45 am]

BILLING CODE 4310-55-P